DEPARTMENT OF COMMERCE

Patent and Trademark Office

[Docket No. PTO-C-2016-0032]

USPTO Cancer Moonshot Challenge

AGENCY: United States Patent and Trademark Office, Commerce.

ACTION: Notice.

SUMMARY: The United States Patent and Trademark Office (USPTO) publishes this notice to announce the Cancer Moonshot Challenge, which was launched on August 22, 2016, to enlist the public's help to leverage the USPTO's intellectual property data, often an early indicator of meaningful research and development, and combine it with other economic and funding data. This challenge supports the goals and objectives of the National Cancer Moonshot, a Presidential initiative to speed up cancer advances, make more therapies available to more patients, and improve the ability to prevent cancer and detect it at an early stage. This notice provides the public with information on participation and application requirements for the challenge, including the judging criteria, submission requirements, and rules of eligibility.

DATES: Challenge Deadline: The deadline for submissions is September 12, 2016, 5:00 p.m. Eastern Standard Time (EST).

ADDRESSES: All individuals or entities who wish to participate in the challenge must register and submit their entry through www.challenge.gov.

FOR FURTHER INFORMATION CONTACT: For further information, please contact Thomas A. Beach, Office of the Under Secretary and Director, at 571-272-8600.

SUPPLEMENTARY INFORMATION:

I. About the Challenge

Background

Cancer is undoubtedly a disease that touches all our lives. Ending cancer as we know it requires the formation of new alliances. As President Obama noted, getting this done isn't just going to take the best and brightest across the medical, research, and data communities—but millions of Americans owning a stake of it. By harnessing the power of patent data and accelerating the process for protecting the intellectual property that leads to cancer immunotherapy breakthroughs, the USPTO is standing up and doing its part to help bring potentially life-saving treatments to patients, faster.

The Challenge

With data released through the USPTO Developer Hub, users are building rich visualizations of intellectual property data, an early indicator of meaningful innovation and research and development (R&D), and combining this data with other state or agency data, such as census and bureau of labor statistics, and/or economic and financial data. These types of visualizations demonstrate the power of telling complex stories that lead to impactful insights and ask why the data matters. Similarly, we challenge you to create and illuminate new trend lines and interactive mappings of innovation with visualizations for all types of cancer treatments and diagnostics by combining our data with other unique data. Be sure to list the sources of your data sets (i.e., orange book data from the FDA), tools, and assumptions used to form your conclusion and visualizations. Imagine your data visualizations will be the foundation to empower the Federal Government—as well as the medical, research, and data communities—to make more precise funding and policy decisions based on the commercialization lifecycle of the most promising treatments, while maximizing U.S. competitiveness in cancer investments.

Using analytic tools, processes, and other interoperable data sets, we are challenging you to develop interactive visualizations and stories that can help reveal new insights to guide public policy and research to achieve the goal of doubling the rate of progress toward a cure. For example, you could address questions such as:

Trending:

• What new insights can be revealed by correlating R&D spending/funding to breakthrough technologies? How would you define or cluster the broad spectrum of cancer treatments, therapies, and/or diagnostics?

• What would trace studies of commercially successful treatments from patent to product tell us? What data insights can be gleaned from understanding the time it takes bring patents to patients?

• What are the peaks and valleys in the landscape of cancer treatment technologies?

Policy:

• If you were the Director of NIH or another agency, given what you have learned from this patent data and your research, how would you prioritize your cancer research budget? (The National Cancer Institute's FY2014 budget was $4.932 billion.)

• Based on cluster mapping of cancer treatments, therapies, and/or diagnostics, what policy would you put in place to promote certain technologies? For example, would you promote treatment to make cancer a livable disease verses curing it?

• Is there any measurable relationship between patent data, clinical trial data, and time to it takes for the technology to be in the hands of the patient? If so, how (and with what catalyst for innovation and policy changes) would you advise the VPOTUS for the Cancer Moonshot?

Resources

The USTPO has released a curated data set consisting of 269,353 patent documents (published patent applications and granted patents) spanning the 1976 to 2016 period. This data and associated documentation explaining our methodology can be found on the USPTO Developer Hub.

Prizes

First Place: $5,000.00

Second Place: $3,000.00

Third Place: $2,000.00

More Information About the Cancer Moonshot Initiative

As the President's Cancer Moonshot Initiative looks to build public-private partnerships with industry, governments, health systems, non-profits, philanthropy, research institutes, patients, and academia, those interested in advancing the Cancer Moonshot can join today by visiting www.whitehouse.gov/CancerMoonshot.

II. Judging Criteria

• Creativity & Innovation (20%)

○ Uniqueness and innovation in approach to revealing new insights to guide public policy and research.

○ Concept should be original, fill a gap, or answer a question in a manner that is not already available.

• Evidence Base & Effectiveness (20%)

○ Provide meaningful insight, including potential actions and discoveries, using patent-related data to better inform funding and policy decisions or uncover insights into the cancer R&D process.

○ How did you arrive at and validate your story? Did you include additional complimentary datasets to help solidify your story? What additional knowledge sources did you use?

• Value to Public (20%)

○ Concept should add value to the medical, research, or data communities and policymakers, allowing them to make more informed funding and policy decisions based on the patterns and trends of innovation in cancer diagnosis and treatment.

• Usability (20%)

○ The design elements should attract, engage, and influence actions from the public and policymakers.

• Functional Product (20%)

○ The visualization should have demonstrable functionality as described in project description.

III. How To Enter

By September 12, 2016, 5:00 p.m. Eastern Standard Time, submit the following items through www.challenge.gov:

• A story (maximum 1,000 words). Written in English, tell the story of your visualization and walk users through how to use your visualization. The document must describe how your visualization provides meaningful insight, including potential actions and/or discoveries.

• Access to and testing instructions for your submission. This can be appended to your visualization description and does not count toward the 1,000 word maximum.

• Link to the submission. We will not accept any submission without a link.

IV. Rules

To be eligible to win a prize under this challenge, an individual or entity:

(1) Shall have registered to participate in the competition under the rules promulgated by the USPTO.

(2) Shall have complied with all the requirements under this section.

(3) In the case of a private entity, shall be incorporated in and maintain a primary place of business in the United States; in the case of an individual, whether participating singly or in a group, shall be a citizen or permanent resident of the United States.

(4) Shall not be a federal entity or federal employee acting within the scope of their employment.

(5) Shall not be a USPTO employee working on their applications or submissions during assigned duty hours.

(6) In the case of a federal grantee, shall not use federal funds to develop applications unless consistent with the purpose of their grant award.

(7) In the case of a federal contractor, shall not use federal funds from a contract to develop applications or to fund efforts in support of a challenge submission.

An individual or entity shall not be deemed ineligible because the individual or entity used federal facilities or consulted with federal employees during a competition if the facilities and employees are made equitably available to all individuals and entities participating in the competition.

Entrants must agree to assume any and all risks and waive claims against the Federal Government and its related entities, except in the case of willful misconduct, for any injury, death, damage, or loss of property, revenue, or profits, whether direct, indirect, or consequential, arising from their participation in this prize contest, whether the injury, death, damage, or loss arises through negligence or otherwise.

Entrants must also agree to indemnify the Federal Government against third-party claims for damages arising from or related to competition activities. By entering into this competition, entrants represent that the they possess liability insurance or are otherwise financially responsible for: (1) Claims by a third party for death, bodily injury, or property damage, or loss resulting from an activity carried out in connection with participation in the competition, with the Federal Government named as an additional insured under the Entrant's insurance policy, if any; and (2) claims by the Federal Government for damage or loss to government property resulting from such an activity.

By submitting an entry to this competition you represent and warrant that your submission:

• Is your own work and not copied (if we have reason to believe that your submission is not your own work then we may not consider it);

• does not contain any third party intellectual property rights and/or content that you do not have permission to use; and

• is not obscene, defamatory, or in breach of any applicable legislation or regulations.

The USPTO reserves the right to cancel, suspend, and/or modify the challenge, or any part of it, for any reason, at the USPTO's sole discretion.

Submission Requirements

• Your submission must use at least the cancer research dataset provided by the USPTO.

• Your submission must be relevant to a U.S. audience and must be in the English language only.

• You are responsible for the cost and expense (if any) of sending your submission to us and, if your submission is selected, either attending an awards event demo at the USPTO on September 26, 2016, in person or submitting a video of your presentation to be shared at the event.

• Only one project submission is permitted per person or group. In the event of a dispute over the identity of an entrant, the submission will be deemed submitted by the authorized account holder of the email address submitted during the registration process.

Submissions that do not adhere to the requirements listed above will be automatically disqualified.

Intellectual Property

Ownership of intellectual property is determined by the following:

• Each entrant retains title and full ownership in and to their submission. Entrants expressly reserve all intellectual property rights not expressly granted under the challenge agreement.

• By participating in the challenge, each entrant hereby irrevocably grants to sponsor and administrator a limited, non-exclusive, royalty-free, worldwide license and right to reproduce, publicly perform, publicly display, and use the submission to the extent necessary to administer the challenge, and to publicly perform and publicly display the submission, including, without limitation, for advertising and promotional purposes relating to the challenge.

• All entrants are encouraged to open source their code to the extent possible as a continuing contribution to cancer research.

Dated: August 31, 2016.
Michelle K. Lee,
Under Secretary of Commerce for Intellectual Property and Director of the United States Patent and Trademark Office.

[FR Doc. 2016-21349 Filed 9-2-16; 8:45 am]

BILLING CODE 3510-16-P